INTERNATIONAL TRADE COMMISSION

[Investigation No. 337-TA-1022]

Certain Sleep-Disordered Breathing Treatment Mask Systems and Components Thereof; Commission Determination Not To Review an Initial Determination Granting Complainants' Unopposed Motion To Terminate the Investigation in its Entirety Based Upon Withdrawal of the Complaint; Termination of Investigation

AGENCY: U.S. International Trade Commission.

ACTION: Notice.

SUMMARY: Notice is hereby given that the U.S. International Trade Commission has determined not to review the presiding administrative law judge's (“ALJ”) initial determination (“ID”) (Order No. 18) granting complainants' unopposed motion to terminate the investigation in its entirety based upon withdrawal of the complaint.

FOR FURTHER INFORMATION CONTACT: Panyin A Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-1022 on September 22, 2016, based on a complaint filed by ResMed Corp. of San Diego, California; ResMed Inc. of San Diego, California; and ResMed Ltd. of New South Wales, Australia (collectively, “ResMed”). 81 FR 65411 (Sept. 22, 2016). The complaint alleges violations of section 337 of the Tariff Act of 1930 (19 U.S.C. 1337) in the importation into the United States, the sale for importation, and the sale within the United States after importation of certain sleep-disordered breathing treatment mask systems and components thereof that infringe one or more claims of U.S. Patent No. 8,960,196 and U.S. Patent No. 9,119,931. The notice of investigation named the following respondents: Fisher & Paykel Healthcare Limited of Auckland, New Zealand; Fisher & Paykel Healthcare, Inc. of Irvine, California; and Fisher & Paykel Healthcare Distribution Inc., of Irvine, California (collectively “Fisher & Paykel”). The Office of Unfair Import Investigations is not participating in the investigation.

On May 16, 2017, ResMed moved to terminate the investigation in its entirety based upon withdrawal of the complaint. Fisher & Paykel filed a response not opposing the motion, but reserving their rights to seek sanctions or appropriate relief.

On May 17, 2017, the ALJ issued the subject ID, granting the unopposed motion. The ALJ found that the motion complies with the requirements of Commission Rule 210.21(a)(1) (19 CFR 210.21(a)(1)) and further found that there are no extraordinary circumstances that warrant denying the motion. None of the parties petitioned for review of the ID.

The Commission has determined not to review the ID. Thus, the investigation is terminated.

The authority for the Commission's determination is contained in section 337 of the Tariff Act of 1930, as amended (19 U.S.C. 1337), and in part 210 of the Commission's Rules of Practice and Procedure (19 CFR part 210).

By order of the Commission.
Issued: June 13, 2017.
Lisa R. Barton,
Secretary to the Commission.

[FR Doc. 2017-12521 Filed 6-15-17; 8:45 am]

BILLING CODE 7020-02-P